ENVIRONMENTAL PROTECTION AGENCY

[FRL-7218-6]

Request for Initial Proposals for Fiscal Year 2003—Chesapeake Bay Program

The U.S. Environmental Protection Agency (EPA) Chesapeake Bay Program (CBP) is issuing a Requests for Initial Proposals (RFIP) to implement specific outcomes that will further goals of the Chesapeake 2000 agreement. Up to $2.2 million dollars may be available for Fiscal Year 2003 for implementation of activities to protect and restore the Chesapeake Bay. Any non-profit organization, federal state or local government agency, interstate agency, college or university is eligible to submit proposals in response to this Request for Initial Proposals. Funding will be provided to an applicant under the authority of the Clean Water Act, section 117.

The RFIP will be available starting May 29, 2002 at the following Web site: http://www.gov/r3chespk/ You may also request a copy by calling Robert Shewack at 410-267-9856 or by e-mail at shewack.bob@epa.gov All proposals must be postmarked NLT July 30, 2002.

Diana Esher,
Deputy Director, Chesapeake Bay Program Office.

[FR Doc. 02-13353 Filed 5-28-02; 8:45 am]

BILLING CODE 6560-50-M